FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 6, 2018.

A. Federal Reserve Bank of Dallas (Robert L. Triplett III, Senior Vice President) 2200 North Pearl Street, Dallas, Texas 75201-2272:

1. Richard Franke, Bayview, Texas, and Dennis Franke, Brownsville, Texas, individually, to acquire voting shares of Laguna Madre Bancshares, Inc., and thereby indirectly acquire shares of First National Bank of South Padre Island, Texas. In addition, The McDaniel Nevada Irrevocable Trust, Fort Worth, Texas, Barbara McDaniel, Fort Worth, Texas, Trustee for The McDaniel Nevada Irrevocable Trust, the Estate of Melvin H. Chapman, South Padre Island, Texas, Stewart Chapman, Wichita Falls, Texas, Executor for the Estate of Melvin H. Chapman, Trevor Franke, Frisco, Texas, Denise Franke Yeary, Dallas, Texas, Richard Franke, Jr., John P. Franke, and Kevin C. Franke, all of Bayview, Texas; to retain shares and to join a group acting in concert to retain shares of Laguna Madre Bancshares, Inc.

Board of Governors of the Federal Reserve System, July 16, 2018.
Ann Misback,
Secretary of the Board.

[FR Doc. 2018-15472 Filed 7-19-18; 8:45 am]

BILLING CODE P